DEPARTMENT OF COMMERCE

National Oceanic and Atmospheric Administration

RIN 0648-XA157

Takes of Marine Mammals Incidental to Specified Activities; Taking Marine Mammals Incidental to Exploration Drilling Programs in the Chukchi and Beaufort Seas, AK

AGENCY: National Marine Fisheries Service (NMFS), National Oceanic and Atmospheric Administration (NOAA), Commerce.

ACTION: Notice; non-issuance of incidental harassment authorizations.

SUMMARY: On April 19, 2010, and May 7, 2010, NMFS published notices of proposed Incidental Harassment Authorizations (IHAs) for the take of small numbers of marine mammals, by harassment, by Shell Offshore Inc. (Shell) incidental to offshore exploration drilling on Outer Continental Shelf (OCS) leases in the Beaufort and Chukchi Seas, Alaska, during July through October, 2010. Notice is hereby given that these IHAs were not issued, and Shell did not conduct the proposed exploration drilling programs in 2010.

ADDRESSES: The applications related to this action are available by writing to Michael Payne, Chief, Permits, Conservation, and Education Division, Office of Protected Resources, National Marine Fisheries Service, 1315 East-West Highway, Silver Spring, MD 20910, by telephoning the contact listed here, or online at: http://www.nmfs.noaa.gov/pr/permits/incidental.htm. Documents cited in this notice may be viewed, by appointment, during regular business hours, at the aforementioned address.

FOR FURTHER INFORMATION CONTACT: Candace Nachman, NMFS, 301-713-2289 ext. 156.

SUPPLEMENTARY INFORMATION: On March 18, 2010, and April 14, 2010, NMFS received revised IHA applications from Shell requesting the take of several species of marine mammals, by Level B harassment, incidental to conducting an exploration drilling program on OCS leases in Camden Bay, Beaufort Sea, Alaska, and offshore OCS leases in the Chukchi Sea, respectively, during the 2010 open-water season. NMFS published notices of proposed IHA along with 30-day public comment periods in the Federal Register on April 19, 2010 (74 FR 20482) for the Beaufort Sea request and May 7, 2010 (74 FR 25730) for the Chukchi Sea request.

On May 27, 2010, following the April 20, 2010, Deepwater Horizon oil spill in the Gulf of Mexico, the Department of the Interior (DOI) announced a suspension of proposed exploration drilling in the U.S. Arctic and that DOI would postpone consideration of Shell's exploration drilling requests for the 2010 open-water season. Since no permits were issued to Shell by DOI to conduct the exploration drilling programs during the 2010 open-water season, NMFS did not issue IHAs to Shell for these two proposed programs.

In November 2010, Shell sent two letters to NMFS regarding the 2010 IHA requests. Regarding the proposed Beaufort Sea program, Shell indicated that they intend to move forward with the exploration drilling program in Camden Bay during the 2011 open-water season. Therefore, Shell requested that NMFS continue processing the pending 2010 IHA request. NMFS has requested additional information from Shell. Until this information is received, NMFS cannot consider the 2011 IHA request complete. Once a completeness determination is made for the Beaufort Sea exploration drilling program, NMFS will proceed with publication of a new notice of proposed IHA and request for public comments.

Regarding the proposed Chukchi Sea program, Shell indicated that because of ongoing litigation with the Chukchi Sea Lease Sale 193 planning area, they have had to defer their Chukchi Sea Exploration Plan. Therefore, Shell requested that NMFS suspend further consideration and action of Shell's Chukchi Sea program. Shell will inform NMFS at such time that they intend to move forward with their Chukchi Sea exploration drilling program. If and when Shell informs NMFS that their Chukchi Sea program is moving forward, NMFS will ensure that it has a complete application before publishing a new notice of proposed IHA.

Dated: January 18, 2011.
Helen M. Golde,
Deputy Director, Office of Protected Resources, National Marine Fisheries Service.

[FR Doc. 2011-1357 Filed 1-21-11; 8:45 am]

BILLING CODE 3510-22-P